ENVIRONMENTAL PROTECTION AGENCY

[EPA-HQ-OARM-2005-0003; FRL-8050-5]

Agency Information Collection Activities; Submission to OMB for Review and Approval; Comment Request; Contractor Cumulative Claim and Reconciliation (Renewal), EPA ICR Number 0246.09, OMB Control Number 2030-0016

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 28, 2006.

ADDRESSES: Submit your comments, referencing Docket ID No. EPA-HQ-OARM-2005-0003 for Contractor Cumulative Claim and Reconciliation (Renewal), EPA ICR Number 0246.09, OMB Control Number 2030-0016, to (1) EPA online using http://www.regulations.gov (our preferred method), by e-mail to oei.docket@epa.gov, or by mail to: EPA Docket Center, Environmental Protection Agency, Office of Environmental Information Docket (OEI), Mail Code 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Nikki Burley, Policy and Oversight Service Center, Office of Acquisition Management, Mail Code 3802R, Environmental Protection Agency, 1200 Pennsylvania Ave., NW., Washington, DC 20460; telephone number: (202) 564-9723 ; fax number: (202) 565-2552; e-mail address: burley.nikki@epa.gov.

SUPPLEMENTARY INFORMATION: EPA has submitted the following ICR to OMB for review and approval according to the procedures prescribed in 5 CFR 1320.12. On October 20, 2005 (70 FR 61124), EPA sought comments on this ICR pursuant to 5 CFR 1320.8(d). EPA received no comments. Any additional comments on this ICR should be submitted to EPA and OMB within 30 days of this notice.

EPA has established a public dockets for this ICR under Docket ID number EPA-HQ-OARM-2005-0003, which is available for public viewing at the OEI Docket in the EPA Docket Center (EPA/DC), EPA West, Room B102, 1301 Constitution Ave., NW., Washington, DC. The EPA/DC Public Reading Room is open from 8:30 a.m. to 4:30 p.m., Monday through Friday, excluding legal holidays. The telephone number for the Reading Room is 202-566-1744, and the telephone number for the OEI Docket is 202-566-1752. An electronic version of the public docket is available for online viewing at http://www.regulations.gov.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Contractor Cumulative Claim and Reconciliation (Renewal).

ICR Numbers: EPA ICR No. 0246.09, OMB Control No. 2030-0016.

ICR Status: This ICR is scheduled to expire on March 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: At the completion of a cost reimbursement contract, contractors will report final costs incurred, including direct labor, materials, supplies, equipment, other direct charges, subcontracting, consultant fees, indirect costs, and fixed fee. Contractors will report this information on EPA Form 1900-10. EPA will use this information to reconcile the contractor's costs. Establishment of the final costs and fixed fee is necessary to close out the contract. Responses to the information collection are mandatory for those contractors completing work under a cost reimbursement contract, and are required to receive final payment. Information submitted is protected from public release in accordance with the Agency's confidentiality regulation, 40 CFR 2.201 et seq.

Burden Statement: The annual public reporting and recordkeeping burden for this collection of information is estimated to average 40 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: All contractors who have completed an EPA cost reimbursement type contract will be required to submit EPA Form 1900-10.

Estimated Number of Respondents: 47.

Frequency of Response: At contract completion.

Estimated Total Annual Hour Burden: 32.

Estimated Total Annual Cost: $3,500, which includes $0 annual capital/startup costs, $500 annual O&M costs, and $3,000 annual labor costs.

Changes in the Estimates: In the last OMB clearance, respondent burden hours were estimated at 163 hours per year. The current estimate is 32 hours per year for an overall decrease of 131 hours. The decrease in burden from the previous approval is due to the fact that EPA had a large backlog of expired contracts that the Agency actively closed out during that time, thus increasing the need for submitting the EPA form 1900-10. The requested burden estimate is consistent with EPA's normal business activity for requiring the contractor's cumulative claim and reconciliation. The time required to prepare each information collection has not changed since the last clearance.

Dated: March 21, 2006.
Oscar Morales,
Director, Collection Strategies Division.

[FR Doc. E6-4567 Filed 3-28-06; 8:45 am]

BILLING CODE 6560-50-P